DEPARTMENT OF THE INTERIOR

Bureau of Indian Affairs

Indian Gaming

AGENCY: Bureau of Indian Affairs, Interior.

ACTION: Notice of Approved Tribal-State Class III Gaming Compact.

SUMMARY: This notice publishes an Approval of the Amendment to the Tribal-State Compact between the Buena Vista Rancheria of Me-Wuk Indians and the State of California.

EFFECTIVE DATE: December 20, 2004.

FOR FURTHER INFORMATION CONTACT: George T. Skibine, Director, Office of Indian Gaming Management, Office of the Deputy Assistant Secretary-Policy and Economic Development, Washington, DC 20240, (202) 219-4066.

SUPPLEMENTARY INFORMATION: Under Section 11 of the Indian Gaming Regulatory Act of 1988 (IGRA) Public Law 100-497, 25 U.S.C. 2710, the Secretary of the Interior shall publish in the Federal Register notice of approved Tribal-State compacts for the purpose of engaging in Class III gaming activities on Indian lands. This Amendment increases the number of gaming devices that the Tribe may operate and extends the term of the Compact until December 31, 2025.

The Acting Principal Deputy Assistant Secretary-Indian Affairs, Department of the Interior, through his delegated authority, is publishing notice that the Amendment to the Tribal-State Compact between the State of California and the Buena Vista Rancheria of Me-Wuk Indians is in effect.

Dated: December 6, 2004.
Michael D. Olsen,
Acting Principal Deputy Assistant Secretary-Indian Affairs.

[FR Doc. 04-27713 Filed 12-17-04; 8:45 am]

BILLING CODE 4310-4N-P